DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Multispecies Days-At-Sea Leasing Program.

OMB Control Number: 0648-0475.

Form Number(s): NA.

Type of Request: Regular submission (extension of a current information collection).

Number of Respondents: 500.

Average Hours per Response: Days at Sea Lease Transfer, 5 minute per party; downgrade vessel specifications baseline request, 1 hour.

Burden Hours: 88.

Needs and Uses: This request is for an extension of this information collection.

National Marine Fisheries Service (NMFS) Northeast Region manages the Northeast (NE) Multispecies Fishery of the Exclusive Economic Zone (EEZ) of the Northeastern United States through the NE Multispecies Fishery Management Plan (FMP). The New England Fishery Management Council prepared the FMP pursuant to the Magnuson-Stevens Fishery Conservation and Management Act (MSA). The regulations implementing the FMP are specified at 50 CFR part 648 Subpart F. The NE multispecies DAS leasing requirements at § 648.82(k) form the basis for this collection of information.

The NE Multispecies Days-at-Sea (DAS) Leasing Program was implemented in 2004 as a result of Amendment 13 (69 FR 22906) which substantially reduced the number of DAS available for the NE multispecies vessels. To mitigate some of the adverse impact associated with the reduction in DAS, the NE Multispecies Leasing Program was developed to enable vessels to increase their revenue by either leasing additional DAS from another vessel to increase their participation on the fishery, or by leasing their unused allocated DAS to another vessel.

NMFS requests DAS leasing application information in order to process and track requests from allocation holders to transfer DAS to another vessel. This information, upon receipt, results in an increasingly more efficient and accurate database for management and monitoring of fisheries of the Northeastern U.S. EEZ. The DAS leasing downgrade information is collected to allow vessel owners that are eligible to lease NE Multispecies DAS a one-time downgrade in their baseline specifications to their current vessel specifications. This one-time downgrade provides greater flexibility for vessel to lease their DAS.

Affected Public: Business or other for-profit organizations.

Frequency: On occasion, one time.

Respondent's Obligation: Required to obtain or maintain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 2, 2012.
Gwellnar Banks,
Management Analyst, Office of the Chief Information Officer.

[FR Doc. 2012-24707 Filed 10-5-12; 8:45 am]

BILLING CODE 3510-22-P